DEPARTMENT OF HEALTH AND HUMAN SERVICES

Centers for Disease Control and Prevention

Disease, Disability, and Injury Prevention and Control Special Emphasis Panel: HIV Prevention Projects for Young Men of Color Who Have Sex With Men and Young Transgender Persons of Color, Funding Opportunity Announcement (FOA) PS06-618

In accordance with section 10(a)(2) of the Federal Advisory Committee Act (Pub. L. 92-463), the Centers for Disease Control and Prevention (CDC) announces the following meeting:

Name: Disease, Disability, and Injury Prevention and Control Special Emphasis Panel: HIV Prevention Projects for Young Men of Color Who Have Sex With Men and Young Transgender Persons of Color, FOA PS06-618.

Times and Dates:

9 a.m.-12 p.m., June 26, 2006 (Closed).

9 a.m.-5 p.m., June 27, 2006 (Closed).

9 a.m.-5 p.m., June 28, 2006 (Closed).

9 a.m.-5 p.m., June 29, 2006 (Closed).

9 a.m.-5 p.m., June 30, 2006 (Closed).

Place: W Hotel Atlanta at Perimeter Center, 111 Perimeter Center West, Atlanta, Georgia 30346, Telephone 770.396.6800.

Status: The meeting will be closed to the public in accordance with provisions set forth in section 552b(c)(4) and (6), Title 5 U.S.C., and the Determination of the Director, Management Analysis and Services Office, CDC, pursuant to Public Law 92-463.

Matters To Be Discussed: The meeting will include the review, discussion, and evaluation of applications received in response to “HIV Prevention Projects for Young Men of Color Who Have Sex With Men and Young Transgender Persons of Color,” FOA PS06-618.

For Further Information Contact: Beth Wolfe, Resource Funding Analyst, Funding Activities Services Office, Extramural Funding Activities Unit, National Center for HIV, STD, and TB Prevention, Centers for Disease Control and Prevention, 1600 Clifton Road NE., MS E-07, Atlanta, GA 30333, Telephone 404.639.8531.

The Director, Management Analysis and Services Office, has been delegated the authority to sign Federal Register notices pertaining to announcements of meetings and other committee management activities, for both CDC and the Agency for Toxic Substances and Disease Registry.

Dated: June 8, 2006.
Alvin Hall,
Director, Management Analysis and Services Office, Centers for Disease Control and Prevention.

[FR Doc. E6-9270 Filed 6-13-06; 8:45 am]

BILLING CODE 4163-18-P